DEPARTMENT OF ENERGY

Request for Information To Release a Solicitation for Certification and Allocation of Credits Under the Civil Nuclear Credit Program

AGENCY: Grid Deployment Office, Department of Energy.

ACTION: Request for information (RFI).

SUMMARY: The U.S. Department of Energy (DOE or the Department) is issuing this RFI to request information from interested parties of DOE's intent to release a solicitation for applications, and to seek advance notice of an intent to submit applications in the form of a Letter of Interest (LOI), from nuclear reactor owners or operators for certification and allocation of credits under the Civil Nuclear Credit (CNC) Program to support nuclear reactors at risk of ceasing operations due to economic factors. In the Infrastructure Investment and Jobs Act, Congress directed the Secretary of Energy (Secretary) to establish a CNC Program to evaluate and certify nuclear reactors that are projected to cease operations due to economic factors and to allocate credits to selected certified nuclear reactors via a sealed bid process.

DATES: Submission of LOIs is requested on or before October 28, 2024.

ADDRESSES: Interested parties may submit an LOI as an attachment by email to CNC_Program_Mailbox@hq.doe.gov.

FOR FURTHER INFORMATION CONTACT: Requests for additional information or questions about the RFI may be sent to Theodore Taylor, Civil Nuclear Credit Program Manager, at CNC_Program_Mailbox@hq.doe.gov or at (202) 586-4316.

SUPPLEMENTARY INFORMATION:

Background and Program Description

As energy markets and economic circumstances continue to shift, the United States has lost approximately 10,200 megawatts of nuclear energy capacity with the premature closures of 13 commercial reactors.¹ These closures have led to an increase in carbon emissions, poorer air quality, and the loss of thousands of high-paying jobs. Further closures threaten to exacerbate these issues. In November 2021, Congress appropriated funds under the Infrastructure Investment and Jobs Act (IIJA) (Pub. L. 117-58), codified at 42 U.S.C. 18753, to allocate credits to certified nuclear reactors to prevent closure due to economic factors. In addition to the CNC Program, Congress also appropriated funds in August 2022 under Section 13105 of the Inflation Reduction Act of 2022 (IRA) (Pub. L. 117-169), codified at 26 U.S.C. 45U for the zero-emission nuclear power production tax credit that provides up to an inflation-adjusted $15 per megawatt-hour for electricity produced. The CNC Program also advances the President's Justice40 Initiative,² which sets a goal that 40 percent of the overall benefits of certain federal climate, clean energy, affordable and sustainable housing, and other investments flow to disadvantaged communities that are marginalized by underinvestment and overburdened by pollution.³ In the Consolidated Appropriations Act, 2024, Congress repurposed an aggregate amount of up to $3.72 billion in the CNC Program's unobligated balances appropriated under the IIJA to carry out nuclear programs supporting small modular reactors and a uranium strategy pursuant to the Nuclear Fuel Security Act of 2023.⁴

¹ Congressional Research Serv., R46820, U.S. Nuclear Plant Shutdowns, State Interventions, and Policy Concerns, (Updated 2/7/22, available at https://crsreports.congress.gov/product/pdf/R/R46820. Note that Palisades Nuclear Power Plant has not yet closed but is not producing power.

² https://www.whitehouse.gov/environmentaljustice/justice40.

³ White House, Justice40 Covered Programs List (Nov. 2023), available at https://www.whitehouse.gov/wp-content/uploads/2023/11/Justice40-Initiative-Covered-Programs-List_v2.0_11.23_FINAL.pdf.

⁴ See Section 3131 of the National Defense Authorization Act for Fiscal Year 2024, Public Law 118-31 (Dec. 22, 2023).

CNC Award Cycles 1 and 2 were released in 2022 and 2023, respectively. Under the CNC Program, DOE certifies operating nuclear reactors projected to cease operations due to economic factors and whose closure would result in a projected increase in air pollutants, if the U.S. Nuclear Regulatory Commission has reasonable assurance the reactor will continue to operate safely. Certification of eligibility to apply for credits requires that the nuclear reactor meet certain economic and other criteria. The CNC Program identifies specific eligibility criteria and provides discretion for the Secretary to define additional eligibility criteria for certification of the qualifying nuclear reactor. Credits will be awarded over a four-year period beginning on the date of the selection. Nuclear reactor owners or operators may apply for recertification after that time and additional credits may be allocated through September 30, 2031, subject to the availability of funds.

More detailed information about the CNC Program can be found at https://www.energy.gov/gdo/civil-nuclear-credit-program.

Purpose

Subject to availability of funds, DOE is planning up to $980 million for Award Cycle 3. Prior to releasing the Guidance for Award Cycle 3, DOE is requesting that nuclear reactor owners or operators interested in applying for certification and allocation of credits under the CNC Program provide advance notice of intent to apply in the form of a Letter of Interest (LOI) to be submitted no later than 30 days after this RFI notice. Submissions of LOIs that comply with relevant requirements, as outlined in the Business Proprietary Information section will be kept strictly confidential.

LOI responses shall include:

• Name(s), phone number(s), and email address(es) for the principal point(s) of contact

• Institution or organization affiliation and postal address

• Organization's non-binding expression of interest in applying to the CNC Program Award Cycle 3

• Names of each nuclear reactor for which an owner/operator is intending to apply for certification and allocation of credits under the CNC Program

The responses received from nuclear reactors owners or operators will assist DOE in assessing the CNC Program's timing and resources for Award Cycle 3. Any information obtained as a result of this RFI is intended to be used by DOE on a non-attribution basis for planning and strategy development; this RFI does not constitute a formal solicitation for applications. No application submittals are required at this time. Responses to this RFI will be treated as information only. Respondents are advised that DOE is under no obligation to acknowledge receipt of the information received or provide feedback to respondents with respect to any information submitted under this RFI. Responses to this RFI do not bind DOE to any further actions related to this topic.

An LOI containing the required information as stated in this section will be marked confidential as described in the Business Proprietary Information section.

Business Proprietary Information

Responses containing confidential, proprietary, or privileged information must be conspicuously marked as described in this section. Failure to comply with these marking requirements may result in the disclosure of the unmarked information under the Freedom of Information Act or otherwise. The U.S. Federal Government is not liable for the disclosure or use of unmarked information and may use or disclose such information for any purpose.

Pursuant to 10 CFR 1004.11, any person submitting information believed to be business proprietary and exempt by law from public disclosure should submit via email two well-marked copies: One copy of the document marked “Business Proprietary” including all the information believed to be proprietary, and one copy of the document marked “non-Proprietary” deleting all information believed to be business proprietary. DOE will make its own determination about the business proprietary status of the information and treat it according to its determination. Factors of interest to DOE when evaluating requests to treat submitted information as business proprietary include: (1) a description of the items; (2) whether and why such items are customarily treated as business proprietary within the industry; (3) whether the information is generally known by or available from other sources; (4) whether the information has previously been made available to others without obligation concerning its business proprietary nature; (5) an explanation of the competitive injury to the submitting person which would result from public disclosure; (6) when such information might lose its business proprietary character due to the passage of time; and (7) why disclosure of the information would be contrary to the public interest.

Signing Authority

This document of the Department of Energy was signed on September 20, 2024, by Maria D. Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 23, 2024.
Treena V. Garrett,
Federal Register Liaison Officer, U.S. Department of Energy.

[FR Doc. 2024-22046 Filed 9-26-24; 8:45 am]

BILLING CODE 6450-01-P